DEPARTMENT OF DEFENSE

Office of the Secretary

Defense Health Board; Notice of Federal Advisory Committee Meeting

AGENCY: Department of Defense (DoD).

ACTION: Meeting notice.

SUMMARY: Pursuant to the Federal Advisory Committee Act of 1972 (5 U.S.C., Appendix, as amended), the Government in the Sunshine Act of 1976 (5 U.S.C. 552b, as amended), and 41 CFR 102-3.150, and in accordance with section 10(a)(2) of Public Law, a Defense Health Board (DHB) meeting is announced.

DATES:

June 27, 2013

7:45 a.m.-9:00 a.m. (Administrative Working Meeting).

9:15 a.m.-12:15 p.m. (Open Session).

12:15 p.m.-1:00 p.m. (Administrative Working Meeting).

1:00 p.m.-5:00 p.m. (Closed Session).

June 28, 2013

8:30 a.m.-1:00 p.m. (Administrative Working Meeting).

ADDRESSES: Defense Health Headquarters (DHHQ), Pavilion Salons B-C, 7700 Arlington Blvd., Falls Church, Virginia 22042 (escort required; see guidance in SUPPLEMENTARY INFORMATION, “Public's Accessibility to the Meeting.”)

FOR FURTHER INFORMATION CONTACT: The Director of the Defense Health Board is Ms. Christine Bader, 7700 Arlington Boulevard, Suite 5101, Falls Church, Virginia 22042, (703) 681-6653, Fax: (703) 681-3317, Christine.bader@tma.osd.mil. For meeting information, please contact Ms. Kendal Brown, 7700 Arlington Boulevard, Suite 5101, Falls Church, Virginia 22042, Kendal.Brown.ctr@tma.osd.mil, (703) 681-6670, Fax: (703) 681-3317.

SUPPLEMENTARY INFORMATION: Additional information, including the agenda and electronic registration, is available at the DHB Web site, http://www.health.mil/dhb/default.cfm.

Purpose of the Meeting

The purpose of the meeting is to address and deliberate pending and new issues before the Board.

Agenda

Pursuant to 5 U.S.C. 552b, as amended, and 41 CFR 102-3.140 through 102-3.165 and subject to availability of space, the DHB meeting is open to the public from 9:15 a.m. to 12:15 p.m. on June 27, 2013. On the morning of June 27, 2013, the DHB will receive briefings on the Army Enroute Critical Care Program, an update from the Defense Centers of Excellence for Psychological Health and Traumatic Brain Injury, and an information briefing on the Defense Health Agency Transition. In addition, the Board will report on the progress of its ongoing reviews of the impact of the obesity epidemic on the Department, the review of reducing training expenditures while maintaining health professional credentials, and the effort to capture lessons learned in trauma in theater for the Department.

Pursuant to 5 U.S.C. 552b, as amended, and 41 CFR 102-3.155, in the interest of national security, the DoD has determined that the meeting in the afternoon of June 27, 2013 will be closed to the public. The Assistant Secretary of Defense (Health Affairs), in consultation with the Office of the DoD General Counsel, has determined in writing that the public interest requires that the afternoon session on June 27, 2013 be closed to the public because it will concern matters listed in 5 U.S.C. 552b(c)(1). Specifically, the information presented meets criteria established by an Executive Order to be kept secret in the interest of national defense and foreign policy.

Public's Accessibility to the Meeting

Pursuant to 5 U.S.C. 552b, as amended, and 41 CFR 102-3.140 through 102-3.165 and subject to availability of space, this meeting is open to the public. Seating is limited and is on a first-come basis. All members of the public who wish to attend the public meeting must contact Ms. Kendal Brown at the number listed in FOR FURTHER INFORMATION CONTACT no later than noon on Thursday, June 20 to register and make arrangements for a DHHQ escort, if necessary. Public attendees requiring escort should arrive at the DHHQ Visitor's Entrance with sufficient time to complete security screening no later than 8:30 a.m. on June 27. To complete security screening, please come prepared to present two forms of identification and one must be a picture identification card.

Special Accommodations

Individuals requiring special accommodations to access the public meeting should contact Ms. Kendal Brown at least five (5) business days prior to the meeting so that appropriate arrangements can be made.

Written Statements

Any member of the public wishing to provide comments to the DHB may do so in accordance with 41 CFR 102-3.105(j) and 102-3.140 and section 10(a)(3) of the Federal Advisory Committee Act, and the procedures described in this notice.

Individuals desiring to provide comments to the DHB may do so by submitting a written statement to the DHB Designated Federal Officer (DFO) (see FOR FURTHER INFORMATION CONTACT). Written statements should address the following details: the issue, discussion, and a recommended course of action. Supporting documentation may also be included, as needed, to establish the appropriate historical context and to provide any necessary background information.

If the written statement is not received at least five (5) business days prior to the meeting, the DFO may choose to postpone consideration of the statement until the next open meeting.

The DFO will review all timely submissions with the DHB President and ensure they are provided to members of the DHB before the meeting that is subject to this notice. After reviewing the written comments, the President and the DFO may choose to invite the submitter to orally present their issue during an open portion of this meeting or at a future meeting. The DFO, in consultation with the DHB President, may allot time for members of the public to present their issues for review and discussion by the Defense Health Board.

Dated: June 6, 2013.
Aaron Siegel,
Alternate OSD Federal Register Liaison Officer, Department of Defense.

[FR Doc. 2013-13769 Filed 6-10-13; 8:45 am]

BILLING CODE 5001-06-P